DEPARTMENT OF TRANSPORTATION

Federal Aviation Administration

Seventy-Sixth Meeting: RTCA Special Committee 147, Minimum Operational Performance Standards for Traffic Alert and Collision Avoidance Systems Airborne Equipment

AGENCY: Federal Aviation Administration (FAA), U.S. Department of Transportation (DOT).

ACTION: Meeting Notice of RTCA Special Committee 147, Minimum Operational Performance Standards for Traffic Alert and Collision Avoidance Systems Airborne Equipment.

SUMMARY: The FAA is issuing this notice to advise the public of the Seventy-Sixth meeting of RTCA Special Committee 147, Minimum Operational Performance Standards for Traffic Alert and Collision Avoidance Systems Airborne Equipment.

DATES: The meeting will be held October 22-24, 2013, from 9:00 a.m. to 5:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 147. The agenda will include the following:

October 22

• Opening Plenary Session

• Chairmen's Opening Remarks

• Introductions

• Approval of Minutes from 75th meeting of SC 147

• Approval of Agenda

• Working Group Reports

• SC-147 Terms of Reference (ToRs)

• Scope, Deliverables and Schedule

• Coordination with other SCs

• EUROCAE Working Group (WG)-75 Status

• Status of Current Activities

• SESAR Activities/Work

• Status of Current Activities

• AVS Activities/Report

• TCAS II TSO-C119d/AC 20-151 () updates

• FAA TCAS Program Office

• Status of Current Activities

• ACAS X Concept Review

ACAS X ConOps Overview

System Overview

• Threat Resolution Module

October 23

• Continuation of FAA TCAS Program Office

• ACAS X Functional Architecture

• Verification & Validation Activities Overview

System Validation

TSIM X

Certification Perspective

• 2013 FAA Flight Test Quick-Look

• Operational Performance

• Program Handouts

• Working Group Realignment

• Proposed Structure

• WG Formulation/Chairs

• Roles & Responsibilities

• Committee Process

• Change Proposal (CP) process

• Envisioned Products

• Degrees of Freedom for Manufactures

• MOPS Development Issues

• Technical Approach

• Technical Content

October 24

• Working Group Stand-ups

• Scope/Organization of Work

• High-level Schedule/Milestones

• Technical Discussion

• Planning

Initial Actions

Scheduling of teleconferences, etc.

• Working Group Sign-up

• Other Business

• Action Items

• Time and Place of Next Meeting

• Plenary Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 25, 2013.
Paige Williams,
Management Analyst, NextGen, Business Operations Group, Federal Aviation Administration.

[FR Doc. 2013-24148 Filed 10-2-13; 8:45 am]

BILLING CODE 4910-13-P